DEPARTMENT OF HOUSING AND URBAN DEVELOPMENT

[Docket No. FR-5382-N-04]

Notice of Proposed Information Collection for Public Comment: Notice of Funding Availability for the Alaska Native/Native Hawaiian Institutions Assisting Communities (AN/NHIAC) Program

AGENCY: Office of the Assistant Secretary for Policy Development and Research, HUD.

ACTION: Notice.

SUMMARY: The proposed information collection requirement described below will be submitted to the Office of Management and Budget (OMB) for review, as required by the Paperwork Reduction Act. The Department is soliciting public comments on the subject proposal.

DATES: Comment Due Date: June 1, 2010.

ADDRESSES: Interested persons are invited to submit comments regarding this proposal. Comments should refer to the proposal by name and/or OMB Control Number and should be sent to: Reports Liaison Officer, Office of Policy Development and Research, Department of Housing and Urban Development, 451 7th Street, SW., Room 8228, Washington, DC 20410-6000.

FOR FURTHER INFORMATION CONTACT: Susan Brunson, 202-708-3061, ext. 3852 (this is not a toll-free number), for copies of the proposed forms and other available documents.

SUPPLEMENTARY INFORMATION: The Department of Housing and Urban Development will submit the proposed extension of information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Notice of Funding Availability for the Alaska Native/Native Hawaiian Institutions Assisting Communities (AN/NHIAC) Program.

OMB Control Number: 2528-0206.

Description of the Need for the Information and Proposed Use: The information is being collected to select applicants for award in this statutorily created competitive grant program and too monitor performance of grantees to ensure they meet statutory and program goals and requirements.

Agency Form Numbers: SF-424, SF-424 Supplement, SF-LLL, HUD-424-CB, HUD-2730, HUD-2880, HUD-2993, HUD-2994-A, HUD-96011, and HUD-96010.

Members of the Affected Public: Alaska Native Institutions (ANI) and Native Hawaiian Institutions (NHI) of Higher Education that meet the statutory definition established in Title III, Part A, Section 317 of the Higher Education Act of 1965, as amended by the Higher Education Amendments of 1998 (Pub. L. 105-244; enacted October 7, 1998).

Estimation of the total number of hours needed to prepare the information collection including number of respondents, frequency of response, and hours of response: Information pursuant to grant award will be submitted once a year. The following chart details the respondent burden on an annual and semi-annual basis:

| Number of respondents | Total annual responses | Hours per response | Total hours
Applicants | 20 | 20 | 40 | 800
Quarterly Reports | 10 | 40 | 6 | 240
Final Reports | 10 | 10 | 8 | 80
Recordkeeping | 10 | 10 | 5 | 50
Total |  |  | 59 | 1170

Status of the proposed information collection: Pending OMB approval.

Authority: Section 3506 of the Paperwork Reduction Act of 1995, 44 U.S.C. Chapter 35, as amended.

Dated: March 19, 2010.
Raphael W. Bostic,
Assistant Secretary for Policy Development and Research.

[FR Doc. 2010-7223 Filed 3-30-10; 8:45 am]

BILLING CODE 4210-67-P